DEPARTMENT OF ENERGY

Federal Energy Regulatory Commission

[Docket Nos. PA02-2-000, EL00-95-048, EL00-98-042, and EL01-10-007]

Fact Finding Investigation of Potential Manipulation of Electric and Natural Gas Prices, San Diego Gas & Electric Company, Complainant, v. Sellers of Energy and Ancillary Services Into Markets Operated by the California Independent System Operator and the California Power Exchange, Respondents; Investigation of Practices of the California Independent System Operator and the California Power Exchange Puget Sound Energy, Inc., et al., Complainant, v. All Jurisdictional Sellers of Energy and/or Capacity at Wholesale Into Electric Energy and/or Capacity Markets in the Pacific Northwest, Including Parties to the Western Systems Power Pool Agreement, Respondent (Not Consolidated); Notice Regarding Public Accessibility of Data and Further Requests for Comments

April 7, 2003.

On March 5, 2003, the Commission issued a notice that it intended to release to the public information collected in its investigation into manipulation of energy prices in the West, and sought, by March 12, 2003, comments from those companies and individuals who submitted information during the course of the investigation. Eighteen companies or organizations, as well as the United States Attorney for the Southern District of Texas, filed comments or otherwise responded. Enron Corporation was not among those respondents. On March 21, 2003, the Commission issued an order addressing the comments and responses to its March 12, 2003, notice, and further announced that it would release the information, except as noted in the order, in no less than five days after issuance of the order. One exception to the release was personal personnel information that was raised by three of the commenters. In this regard, the Commission asked that companies or individuals provide specifics by March 24, 2003, so that such information could be excluded from the public release. One company provided such details. Thereafter, on March 26, 2003, the Commission released the remaining information. 102 FERC ] 61,311.

Subsequent to the release of the information, on March 28, 2003, the Commission received the first of several motions from Enron asking that certain parts of the released information be removed from public access. These motions in particular attempted to identify Enron employees' personal information, including social security numbers. The Commission also received calls on its Enforcement Hotline from Enron employees who were concerned about their personal information being available on the internet. Finally, the Commission was contacted by a consulting firm which had given Enron information with security implications, which Enron in turn had given the Commission's staff during the investigation. As quickly as possible, the Commission staff accommodated the requests involving personal and security related information.

On April 4, 2003, the Commission was notified that Enron had filed a petition for writ of mandamus and an emergency motion to stay the March 21, 2003, order in the United States Court of Appeals for the Fifth Circuit. Enron states that it seeks only one thing: that all Enron e-mails posted on the Commission's Web site be removed for a period of 10 days, or for such longer period as the Court may deem appropriate, so that certain information could be removed from the e-mails.

The Commission hereby gives notice that it will remove temporarily, until April 24, 2003, Enron emails from the agency's web site. During that time, the Commission will consider any requests that certain personal information or information with security implications be permanently removed from public accessibility. With respect to claims regarding supposed trade secrets, the Commission has already considered and denied requests that such information should be removed.

The Commission stresses that all comments filed in response to this notice must be detailed and specific, and should provide sufficient information that the documents can be readily located. Generalized comments or concerns will not be considered sufficient grounds for removal of information from public accessability. All comments must be filed by April 17, 2003.

Comments due: April 17, 2003.

Magalie R. Salas,
Secretary.

[FR Doc. 03-9096 Filed 4-11-03; 8:45 am]

BILLING CODE 6717-01-P